DEPARTMENT OF THE INTERIOR

National Park Service

[NPS-WASO-NAGPRA-19632; PPWOCRADN0-PCU00RP14.R50000]

Notice of Inventory Completion: Carnegie Museum of Natural History, Pittsburgh, Pennsylvania; Correction

AGENCY: National Park Service, Interior.

ACTION: Notice; correction.

SUMMARY: The Carnegie Museum of Natural History has corrected an inventory of human remains and associated funerary objects, published in a Notice of Inventory Completion in the Federal Register on December 1, 2014. This notice corrects the number of associated funerary objects. Lineal descendants or representatives of any Indian tribe or Native Hawaiian organization not identified in this notice that wish to request transfer of control of these human remains and associated funerary objects should submit a written request to the Carnegie Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Carnegie Museum of Natural History at the address in this notice by February 18, 2016.

ADDRESSES: Deborah G. Harding, Carnegie Museum of Natural History, 5800 Baum Boulevard, Pittsburgh, PA 15206, telephone (412) 665-2606.

SUPPLEMENTARY INFORMATION: Notice is here given in accordance with the Native American Graves Protection and Repatriation Act (NAGPRA), 25 U.S.C. 3003, of the correction of an inventory of human remains and associated funerary objects in the possession of the Carnegie Museum of Natural History, Pittsburgh, PA. The human remains and associated funerary objects were removed from the Chambers Site, 36LR11, in Lawrence County, PA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (79 FR 71120, December 1, 2014). Transfer of control of the items in this correction notice has not occurred.

Correction

In the Federal Register (79 FR 71120, December 1, 2014), paragraph 7, sentence 5, is corrected by substituting the following sentence:

The 3,336 associated funerary objects include 3,055 glass seed; 8 tubular beads; 1 mass of seed beads in matrix (uncounted); 2 silver hair ornaments; 9 copper alloy tinklers; 140 wrought iron nails and fragments and attached wood (coffin fragments); 2 hawk bells; 2 thimbles; 1 copper alloy brooch or buckle; 1 braided wire bracelet; 1 silver band or bracelet; 1 copper alloy bracelet; 1 iron knife blade; 15 grit-tempered pottery fragments; 32 fragments of non-human bone (deer, sheep or goat, pig, and cow); 20 chipped stone tools; 52 chipped stone flakes and fragments; 3 ground stone pieces; 5 projectile points; 4 hammerstones; 2 hematite fragments; 5 pieces of charcoal; 1 piece of bark or fabric; 1 tiny fragment of organic material; 1 lump of matrix containing bone or metal fragments; and 1 natural stone.

In the Federal Register (79 FR 71120, December 1, 2014), paragraph 11 is corrected by substituting the following:

• Pursuant to 25 U.S.C. 3001(3)(A), the 3,336 objects described in this notice are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Deborah G. Harding, Carnegie Museum of Natural History, 5800 Baum Boulevard, Pittsburgh, PA 15206, telephone (412) 665-2606, by February 18, 2016. After that date, if no additional requestors have come forward, transfer of control of the human remains and associated funerary objects to the Delaware Tribe of Indians may proceed.

The Carnegie Museum of Natural History is responsible for notifying the Delaware Tribe of Indians that this notice has been published.

Dated: October 21, 2015.
Melanie O'Brien,
Manager, National NAGPRA Program.

[FR Doc. 2016-00916 Filed 1-15-16; 8:45 am]

BILLING CODE 4312-50-P